DEPARTMENT OF TRANSPORTATION

Maritime Administration

[Docket Number: MARAD-2000-7075]

Requested Administrative Waiver of the Coastwise Trade Laws

AGENCY: Maritime Administration, Department of Transportation.

ACTION: Invitation for public comments on a requested administrative waiver of the Coastwise Trade Laws for the vessel CALEDONIA.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before April 20, 2000.

ADDRESSES: Comments should refer to docket number MARAD-2000-7075.

Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Pub. L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR part 388.

Vessel Proposed for Waiver of the U.S. Build Requirement

(1) Name of vessel and owner for which waiver is requested: CALEDONIA, USCG Documentation No. 679530 owner: Hydeman Boat Leasing Company, LLC.

(2) Size, capacity and tonnage of vessel: Documented length: 84.9 feet, actual length: 98 feet, breadth: 18.6 feet, capacity 6 passengers. The tonnage of the CALEDONIA is measured pursuant to 46 U.S.C. 14502. The U.S.C.G. documented tonnage is Gross 99 and Net 67.

(3) Intended use for vessel, including geographic region of intended operation and trade. According to the applicant: “The CALEDONIA will continue to offer crewed charter service departing from a port in the San Juan Islands of Washington State traveling to the Canadian Gulf Islands and Desolation Sound, British Columbia. Currently, service is either round-trip to the same point of departure or one way to a Canadian destination. New service will offer guests the opportunity to board at one port in the San Juan Islands and to depart at another port in the Islands. Typically the CALEDONIA is contracted to one individual with a party of no more than six for a minimum of seven (7) days. The average cost of a seven (7) day charter is $25,000 including expenses. Charters are offered in this region from June 1st to September 15th. The CALEDONIA offers charters in Mexico during the remaining months of the year.”

(4) Date and place of construction and (if applicable) rebuilding. Date of construction: 1973. Place of original construction: Bergen Op Zoom, Netherlands and was reconstructed/rebuilt in Marina Del Rey, California in 1996.

(5) A statement on the impact this waiver will have on other commercial passenger vessel operators. According to the applicant: “This waiver will have minimal impact on other commercial vessel operators in the region. The CALEDONIA has offered charters in this region for 5 years at near capacity during the operating season. The charters currently offered in this region operate in the waters of the San Juan Islands and most spend a portion of a seven (7) day charter in British Columbia. The only benefit of this waiver will be one of convenience in arranging departing floatplane and ferry arrangements for CALEDONIA's passengers. This waiver will not substantially change the service offered by the CALEDONIA and will not affect the competition in the charter market in this region.

The tourist industry in this region is significant yet only five vessels offer multi-day private charters. Two of these spend a significant portion of the season operating outside the area directly affected by this waiver. In addition, despite the increased interest in water-based travel and the need for more charter companies, there are no cruise ship operations in this region except for small certified passenger ships cruising in the area in late spring on the way to Alaska. The other four charter vessels offered for service in this region and market are:

Name | Length | Rate/Week | Pax | Region
Jamal | 74 | $19,500 | 6 | Seattle, San Juan Islands, British Columbia, Alaska.
Phantom | 71 | 18,500 plus expenses | 6 | San Juan Islands, British Columbia.
Westward | 86 | 15,000 | 6 | Seattle, San Juan Islands, British Columbia.
Olympus | 97 | 28,000 | 8 | Seattle, San Juan Islands, British Columbia.

(6) A statement on the impact this waiver will have on U.S. shipyards. According to the applicant: “This waiver will not have a negative impact on U.S. shipyards. In fact, the $950,000 spent in the 1996 re-construction of the CALEDONIA in California exceeded the $760,000 purchase price and greatly benefited a U.S. shipyard. Further such benefits will be reaped by U.S. shipyards as the CALEDONIA repaired and re-fitted while engaging in coastwise trade.

Moreover, a U.S.-built vessel of this type would be difficult to obtain on the West Coast and prohibitively expensive. Most U.S. builders of this type of vessel are located on the East Coast or have recently moved production facilities to the Far East. Thus, with production low and demand high for a U.S. vessel, it would be too expensive for a charter operation of this type in the region of the San Juan Islands to acquire a U.S. built vessel.”

By Order of the Maritime Administrator.
Dated: March 15, 2000.
Joel C. Richard,
Secretary, Maritime Administration.

[FR Doc. 00-6894 Filed 3-20-00; 8:45 am]

BILLING CODE 4910-81-P